DEPARTMENT OF TRANSPORTATION

Federal Aviation Administration

Notice of Intent

AGENCY: Federal Aviation Administration (FAA).

ACTION: Notice of intent to prepare an environmental impact statement and conduct public scoping meetings.

SUMMARY: This Notice provides information to Federal, state, and local agencies, affected Native American tribes, and other interested persons on the Federal Aviation Administration's (FAA's) intent to prepare an environmental impact statement (EIS) for the Oklahoma Space Industry Development Authority's (OSIDA's) proposal to operate a commercial launch site at the Clinton-Sherman Industrial Airpark (CSIA). The FAA, as the lead Federal agency, will prepare the EIS in accordance with the National Environmental Policy Act (NEPA) of 1969 (42 United States Code (U.S.C.) 4321 et seq.) and the Council on Environmental Quality Regulations for Implementing the Procedural Provisions of NEPA (40 Code of Federal Regulations (CFR) parts 1500-1508), as part of its licensing process for the proposed Oklahoma Spaceport. Because the United States Air Force proposes to continue its use of CSIA (preferred alternative site for the Spaceport) as a training facility, the FAA has requested and the United States Air Force has agreed to be a cooperating agency (40 CFR 1501.6) on this EIS.

OSIDA has entered into memoranda of understanding (MOUs) with various interested parties who wish to construct and operate facilities for the purpose of conducting commercial space launches of reusable launch vehicles (RLVs) from the proposed Oklahoma Spaceport. The potential users of the launch site would be responsible for obtaining any necessary permits or approvals including a launch license from the FAA. Proposed operations include the launch, reentry, landing, and recovery of orbital and sub-orbital launch vehicles. OSIDA plans to support the launch of communications, commercial, and government satellites into low earth orbits, as well as using vehicles for travel to other parts of the world and space tourism.

Background

The FAA is preparing an EIS to analyze the environmental impacts of OSIDA's proposed operation of a launch facility in Oklahoma. The EIS will cover construction of facilities, ground activities (component testing, transportation and storage of fuels and explosives, etc.), pre-flight vehicle and payload preparation activities, launch, reentry, and landing/recovery operations.

The FAA is the lead Federal agency in preparing the EIS because of its licensing authority for commercial launch activities under 49 U.S.C. subtitle IX, ch. 701, formerly the Commercial Space Launch Act of 1984, as amended (CSLA). The CSLA authorizes the Secretary of Transportation to oversee, license and coordinate U.S. commercial space launch activities. Under the CSLA, the Secretary exercises this authority in a manner that ensures the protection of public health and safety, the safety of property, and national security and foreign policy interests of the United States. The Secretary has delegated this authority to the Administrator of the FAA, who in turn has delegated this authority to the Associate Administrator for Commercial Space Transportation (AST). OSIDA intends to apply for a license to operate a launch site at CSIA or an alternative location. Because licensing OSIDA's operations is a major Federal action, compliance with NEPA is required.

A license to operate a launch site authorizes a licensee to operate a launch site in accordance with the representations contained in the licensee's application, with terms and conditions contained in any license order accompanying the license, and subject to the licensee's compliance with 49 U.S.C. subtitle IX, ch.701 and this chapter. 14 CFR part 420.41(a) A license to operate a launch site authorizes a licensee to offer its launch site to a launch operator for each launch point for the type and any weight class of launch vehicle identified in the license application and upon which the licensing determination is based. 14 CFR part 420.41(b) Issuance of a license to operate a launch site does not relieve a licensee of its obligation to comply with any other laws or regulations; nor does it confer any proprietary, property, or exclusive right in the use of airspace or outer space. 14 CFR part 420.41(c) A license to operate a launch site remains in effect for five years from the date of issuance unless surrendered, suspended, or revoked before the expiration of the term and is renewable upon application by the licensee. 14 CFR part 420.43

OSIDA is a state agency created by the Oklahoma legislature in 1999 by Senate Bill 720. The agency is governed by a Board of Directors appointed by the Governor and confirmed by the Senate. The mission of the agency is to create an Oklahoma Spaceport, attract space industry to the State and encourage space-related technology in the state school system at all levels. OSIDA has broad authority legislated by the State to attract industry and develop a Spaceport for economic development. Facilities at the Spaceport may be improved, newly constructed using bond revenues, and leased to companies located on-site. A 168-square mile area including the current CSIA has been designated by the legislature as the Oklahoma Spaceport Territory. OSIDA has been given the ownership of the 2,700-acre CSIA.

Proposed Action

The Proposed Action is to issue a launch site operator license to OSIDA for the CSIA or an alternative site. The launch site operator license is for the purpose of operating a facility in order to launch, reenter, land, or recover RLVs. In addition the proposed site may be available for static engine firings, launch vehicle manufacturing, and other testing and manufacturing activities. The operations will be conducted from a proposed site, which would include existing and newly constructed facilities and infrastructure. The function of the Spaceport will be to provide a facility to launch manned vehicles, satellites and other payloads into sub-orbital trajectories and eventually into prescribed orbits for commercial and government customers. Under the Proposed Action, the FAA would issue a launch site operator license to OSIDA for the operation of a site to launch, land, and recover RLVs. Upon issuance of required FAA approvals, OSIDA would open the site to commercial operations. The first sub-orbital launch is proposed for 2006. Launch providers may use vehicles that have been addressed in the launch site operator license application, proposed to include RLVs launched vertically, horizontally, or from the air. These RLVs may land vertically or horizontally.

Alternative Sites

A number of airports in Southwestern Oklahoma are being considered as alternative locations for OSIDA's proposed facility. Included among the alternatives that could be considered are airport facilities in the towns of Sayre, Frederick, and Hobart. These facilities are being considered in part because of their relatively remote locations. The FAA will work with OSIDA to ensure that a reasonable range of alternatives is evaluated in the EIS.

Scoping Meetings

The EIS will assess environmental impacts associated with the Proposed Action; reasonable alternatives including the No Action alternative; foreseeable future actions; and cumulative effects. Two public scoping meetings will be held to solicit input from the public on potential issues that may need to be evaluated in the EIS. The first public scoping meeting will be held on November 13, 2002, at 6 p.m., at the Western Technology Center located in Burns Flat, Oklahoma. The second public scoping meeting will be held on November 14, 2002, at 6 p.m., at the Metro Technology Center Springlake Campus located in Oklahoma City, Oklahoma. The exact locations will be published in local newspapers as well as on the FAA/AST website (http://ast.faa.gov/), OSIDA website (http://www.okspaceport.state.ok.us) and the EIS public information website (http://www.okspaceporteis.com).

FOR FURTHER INFORMATION CONTACT: Public input and comments are solicited concerning the proposed action. Comments and questions concerning the public scoping process or the EIS process should be addressed to Mr. Douglas W. Graham, Federal Aviation Administration, Office of the Associate Administrator for Commercial Space Transportation, Suite 331/AST-100, 800 Independence Avenue, SW., Washington, DC 20591; phone (202) 267-8568 or by e-mail at doug.graham@faa.gov.

Patricia G. Smith,
Associate Administrator for Commercial Space Transportation.

[FR Doc. 02-27034 Filed 10-22-02; 8:45 am]

BILLING CODE 4310-13-P